DEPARTMENT OF AGRICULTURE

Office of the Secretary

Notice of Appointment of Members to the National Agricultural Research, Extension, Education, and Economics Advisory Board

AGENCY: Research, Education, and Economics, USDA.

ACTION: Appointment of members.

SUMMARY: In accordance with the Federal Advisory Committee Act, 5 U.S.C. App 2, the United States Department of Agriculture announces the appointments made by the Secretary of Agriculture to the 8 vacancies on the National Agricultural Research, Extension, Education, and Economics Advisory Board.

DATES: Appointments by the Secretary of Agriculture are for a 3-year term, effective October 1, 2013 until September 30, 2015.

ADDRESSES: The National Agricultural Research, Extension, Education, and Economics Advisory Board Office, Room 3901, South Building, United States Department of Agriculture, STOP 0321, 1400 Independence Avenue SW., Washington, DC 20250-0321.

FOR FURTHER INFORMATION CONTACT: Michele Esch, Executive Director, National Agricultural Research, Extension, Education, and Economics Advisory Board, Research, Education, and Economics Advisory Board Office, Room 3870 South Building, U.S. Department of Agriculture, STOP: 0321, 1400 Independence Avenue SW., Washington, DC 20250-0321. Telephone: 202-720-3684. Fax: 202-720-6199, or email: Michele.esch@usda.gov.

SUPPLEMENTARY INFORMATION: Section 802 of the Federal Agricultural Improvement and Reform Act of 1996 authorized the creation of the National Agricultural Research, Extension, Education, and Economics Advisory Board. The Board is composed of 25 members, each representing a specific category related to agriculture. The Board was first appointed in September 1996 and at the time one-third of the original members were appointed for one, two, and three-year terms, respectively. Due to the staggered appointments, the terms for 8 of the 25 members expired September 30, 2013. Each member is appointed by the Secretary of Agriculture to a specific category on the Board, including farming or ranching, food production and processing, forestry research, crop and animal science, land-grant institutions, non-land grant college or university with a historic commitment to research in the food and agricultural sciences, food retailing and marketing, rural economic development, and natural resource and consumer interest groups, among many others. Appointees by vacancy category of the 3 new members and 5 re-appointments are as follows: Category F. “National Food Animal Science Society,” Govind Kannan, Dean & Director, College of Agriculture, Family Sciences and Technology, Fort Valley State University, Fort Valley, GA; Category G. “National Crop, Soil, Agronomy, Horticulture, or Weed Science Society,” Robert Taylor, Dean and Director of Land Grant Programs, College of Agriculture and Food Science, Florida A&M University, Tallahassee, FL; Category L. “1890 Land-Grant Colleges and Universities,” Chandra Reddy, Dean and Director/Administrator of Extension, College of Agriculture, Human and Natural Sciences, Tennessee State University, Nashville, TN; Category P. “American Colleges of Veterinary Medicine,” Neil Olson, Dean, College of Veterinary Medicine, University of Missouri, Columbia, MO; Category T. “Rural Economic Development,” Twila L'Ecuyer, Owner, CURE Group and Owner/Farmer, L'Ecuyer Farms and L'Ecuyer Gardens, Morrowville, KS; Category U. “National Consumer Interest Group,” Rita Green, Family Resources Management Extension Agent, Mississippi State University, Grenada, MS; Category V. “National Forestry Group,” Steven Daley-Laursen, Senior Executive, Office of the Vice President for Research and Economic Development and Professor, College of Natural Resources, University of Idaho, Moscow, ID; Category W. “National Conservation or Natural Resource Groups,” Carrie Castille, Associate Commissioner, Louisiana Department of Agriculture & Forestry, Baton Rouge, LA.

Done at Washington, DC, this 2nd day of April 2014.
Ann Bartuska,
Deputy Secretary, Research, Education, and Economics.

[FR Doc. 2014-08026 Filed 4-9-14; 8:45 am]

BILLING CODE 3410-22-P